DEPARTMENT OF LABOR

Employment and Training Administration

[TA-W-70,039]

Umicore Autocat USA, Inc., Catoosa, OK; Amended Certification Regarding Eligibility To Apply for Worker Adjustment Assistance

In accordance with Section 223 of the Trade Act of 1974, as amended (“Act”), 19 U.S.C. 2273, the Department of Labor issued a Certification of Eligibility to Apply for Worker Adjustment Assistance on June 26, 2009, applicable to workers of Umicore Autocat USA, Inc., Catoosa, Oklahoma. The notice will soon be published in the Federal Register.

At the request of the State Agency, the Department reviewed the certification for workers of the subject firm. The workers are engaged in the production of catalysts for automotive emission control systems.

The review shows that on May 7, 2007, a certification of eligibility to apply for adjustment assistance was issued for all workers of ASEC Manufacturing, a subsidiary of Delphi Corporation, Catoosa, Oklahoma, separated from employment on or after January 22, 2006 through May 7, 2009. The notice was published in the Federal Register on May 24, 2007 (72 FR 29182). The certification was amended on September 25, 2007, to reflect that Umicore Autocat USA, Inc. was the new owner of the firm. The notice was published in the Federal Register on October 3, 2007 (72 FR 56388).

In order to avoid an overlap in worker group coverage, the Department is amending the May 18, 2008 impact date established for TA-W-70,039, to read May 8, 2009.

The amended notice applicable to TA-W-70,039 is hereby issued as follows:

All workers of Umicore Autocat USA, Inc., Catoosa, Oklahoma, who became totally or partially separated from employment on or after May 8, 2009, through June 26, 2011, and all workers in the group threatened with total or partial separation from employment on date of certification through two years from the date of certification, are eligible to apply for adjustment assistance under Chapter 2 of Title II of the Trade Act of 1974, as amended.

Signed in Washington, DC, this 27th day of July 2009.
Linda G. Poole,
Certifying Officer, Division of Trade Adjustment Assistance.

[FR Doc. E9-18651 Filed 8-4-09; 8:45 am]

BILLING CODE 4510-FN-P